DEPARTMENT OF ENERGY

Federal Energy Regulatory Commission

[Project No. 14861-002]

FFP Project 101, LLC; Notice of Modification of Procedural Schedule

Take notice that the schedule for processing the following hydroelectric application has been modified.

a. Type of Application: Original Major License.

b. Project No.: 14861-002.

c. Date Filed: June 23, 2020.

d. Applicant: FFP Project 101, LLC.

e. Name of Project: Goldendale Energy Storage Project.

f. Location: Off-stream on the north side of the Columbia River at River Mile 215.6 in Klickitat County, Washington, with transmission facilities extending into Sherman County, Oregon. The project would be located approximately 8 miles southeast of the City of Goldendale, Washington. The project would occupy 18.1 acres of lands owned by the U.S. Army Corps of Engineers and administered by the Bonneville Power Administration.

g. Filed Pursuant to: Federal Power Act 16 U.S.C.791(a)-825(r).

h. Applicant Contact: Erik Steimle, Rye Development, 745 Atlantic Avenue Boston Massachusetts 02111; (503) 998-0230; email—erik@ryedevelopment.com.

i. FERC Contact: Michael Tust at (202) 502-6522; or email at michael.tust@ferc.gov.

j. Procedural Schedule: The Commission's June 6, 2022, Notice of Notice of Intent to Prepare an Environmental Impact Statement established January 2023 as the target date for issuing the Draft Environmental Impact Statement (Draft EIS). The revised estimate for issuing the Draft EIS is March 2023. As such, the application will be processed according to the following revised schedule. The timeframe for the Final EIS has not been revised. Additional revisions to the schedule may be made as appropriate.

Milestone | Target date
Issue Draft EIS | March 2023.
Draft EIS Public Meeting | April 2023.
Comments on Draft EIS due | May 2023.
Commission issues Final EIS | October 2023.

Any questions regarding this notice may be directed to Michael Tust at (202) 502-6522 or michael.tust@ferc.gov.

Dated: February 2, 2023.
Kimberly D. Bose,
Secretary.

[FR Doc. 2023-02642 Filed 2-7-23; 8:45 am]

BILLING CODE 6717-01-P